DEPARTMENT OF HOUSING AND URBAN DEVELOPMENT

[Docket No. FR-4739-N-12]

Notice of Proposed Information Collection: Comment Request; Application for Mortgage Insurance for Cooperative and Condominium Housing

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments due date: July 16, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410.

FOR FURTHER INFORMATION CONTACT: Michael McCullough, Director, Office of Multifamily Development, Department of Housing and Urban Development, 451 7th Street, SW., Washington, DC 20410, telephone (202) 708-1142, (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application for Mortgage Insurance for Cooperative and Condominium Housing.

OMB Control Number, if applicable: 2502-0141.

Description of the need for the information and proposed use: Form HUD-93201 is used to analyze specific project information including financial data, cost data, drawings and specifications to determine whether a cooperative or condominium project is eligible for FHA mortgage insurance. HUD technical specialists in appraisal, cost, architecture, and mortgage credit determine if the project is eligible for mortgage insurance; and also analyze information provided on the form HUD-93201. If the information were not collected and analyzed, the Department would have to rely solely on a sponsor's undocumented request, and the Department could expect to sustain substantial losses to the FHA Insurance Fund.

Agency form numbers, if applicable: HUD-93021.

Estimation of the total number of hours needed to prepare the information collection including number of respondents, frequency of response, and hours of response:

The estimated total number of hours needed to prepare the information collection is 91 hours; the number of respondents is 15; the frequency of response is on occasion; and the number of hours per response is 4 hours for reporting and 2 hours for recordkeeping. One additional hour is added for what is customary and usual in conventional mortgage processing.

Status of the proposed information collection: Reinstatement, without change, of a previously approved collection for which approval has expired.

Authority: The Paperwork Reduction Act of 1995, 44 U.S.C. Chapter 35, as amended.

Dated: May 9, 2002.
John C. Weicher,
Assistant Secretary for Housing-Federal Housing Commissioner.

[FR Doc. 02-12331 Filed 5-16-02; 8:45 am]

BILLING CODE 4210-27-M